ENVIRONMENTAL PROTECTION AGENCY

[ER-FRL-8991-2]

Environmental Impact Statements; Notice of Availability

Responsible Agency: Office of Federal Activities, General Information (202) 564-1399 or http://www.epa.gov/compliance/nepa/. Weekly receipt of Environmental Impact Statements. Filed 06/21/2010 through 06/25/210. Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100236, Draft EIS, FERC, CA, Kilarc-Cow Creek Hydroelectric Project (FERC Project No. 606) Proposes to Surrender the License for Operation Project, Old Crow Creek and South Cow Creek, Shasta County, CA, Comment Period Ends: 08/16/2010, Contact: Mary O'Driscoll, 1-866-208-3372.

EIS No. 20100237, Final Supplement, BLM, NV, Newmont Gold Mining, South Operations Area Project Amendment, Updated Information on the Cumulative Effects Analyses, Operation and Expansion, Plan of Operations, Elko and Eureka Counties, NV, Wait Period Ends: 08/02/2010, Contact: Deb McFarlance, 775-753-0200.

EIS No. 20100238, Final Supplement, BLM, NV, Leeville Mining Project, Propose to Develop and Operate an Underground Mine and Ancillary Facilities including Dewatering Operation, Updated Information on the Cumulative Effects Analyses, Plan-of-Operations/Right-of-Way Permit and COE Section 404 Permit, Elko and Eureka Counties, NV, Wait Period Ends: 08/02/2010, Contact: Deb McFarlance, 775-753-0200.

EIS No. 20100239, Draft EIS, BPA, WA, Central Ferry-Lower Monumental 500-kilovolt Transmission Line Project, Proposing to Construct, Operate, and Maintain a 38 to 40-Mile-Long 500-kilovolt (kV) Transmission Line, Garfield, Columbia and Walla Walla Counties, WA, Comment Period Ends: 08/16/2010, Contact: Tish Eaton, 503-230-3469.

EIS No. 20100240, Draft EIS, USACE, CA, American River Watershed Common Features Project/Natomas Post-Authorization Change Report/Natomas Levee Improvement Program, Phase 4b Landside Improvements Project, Sacramento and Sutter Counties, CA, Comment Period Ends: 08/16/2010, Contact: Elizabeth G. Holland, 916-557-6763.

EIS No. 20100241, Draft EIS, USACE, CA, Sunridge Properties Project, Implementing Alternatives for Six Residential Development Project, City of Rancho Cordova, Sacramento County, CA, Comment Period Ends: 08/16/2010, Contact: Michael Jewell, 916-557-6605.

EIS No. 20100242, Draft EIS, NSA, MD, Fort George G. Meade, Maryland, to Address Campus Development, Site M as an Operational Complex and to Construct and Operate Consolidated Facilities for Intelligence Community Use, Fort George G. Meade, MD, Comment Period Ends: 08/16/2010, Contact: Jeffery William, 301-688-2970.

EIS No. 20100243, Draft EIS, FHWA, AL, I-85 Extension from I-59/I-20 near the Mississippi State Line to I-65 near Montgomery, Portion of Autauga, Dallas, Hale, Lowndes, Marengo, Montgomery, Perry, and Sumter Counties, AL, Comment Period Ends: 08/16/2010, Contact: Mark D. Bartlett, 334-274-6350.

Amended Notices

EIS No. 20100225, Draft EIS, BLM, NV, Winnemucca District Office Resource Management Plan, Humboldt, Pershing, Washoe, Lyon and Churchill Counties, NV, Comment Period Ends: 09/22/2010, Contact: Robert Edward, 775-623-1597. Revision to FR Notice Published 06/25/2010: Correction to Title.

EIS No. 20100234, Final EIS, USAF, 00, Shaw Air Base Airspace Training Initiative (ATI), 20th Fighter Wing, Proposal to Modify the Training Airspace Overlying Parts, South Carolina and Georgia, Wait Period Ends: 07/26/2010, Contact: Linda Devine, 757-764-9434.

Revision to FR Notice Published 06/25/2010: Correction to Contact Person Telephone Number.

Dated: June 29, 2010.
Robert W. Hargrove,
Director, NEPA Compliance Division, Office of Federal Activities.

[FR Doc. 2010-16171 Filed 7-1-10; 8:45 am]

BILLING CODE 6560-50-P